ENVIRONMENTAL PROTECTION AGENCY

[ER-FRL-9022-3]

Environmental Impact Statements; Notice of Availability

Responsible Agency: Office of Federal Activities, General Information (202) 564-7146 or http://www2.epa.gov/nepa.

Weekly receipt of Environmental Impact Statements (EISs)

Filed 07/27/2015 Through 07/31/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150208, Final, DOE, AL, PROGRAMMATIC—Engineered High Energy Crop (EHEC) Programs, Review Period Ends: 09/08/2015, Contact: Dr. Jonathan Burbaum 202-287-6413.

EIS No. 20150209, Final, USFS, AZ, Prescott National Forest Revision of Land and Resource Management Plan, Review Period Ends: 11/05/2015, Contact: Gabrielle Kenton 928-443-8221.

EIS No. 20150210, Draft, USFS, WY, Teton to Snake Fuels Management, Comment Period Ends: 09/21/2015, Contact: Steve Markason 307-739-5431.

EIS No. 20150211, Draft, FHWA, LA, Houma-Thibodaux to LA 3127 Connection, Comment Period Ends: 09/21/2015, Contact: Carl Highsmith 225-757-7615.

EIS No. 20150212, Draft, BLM, CA, West Of Devers Upgrade Project, Comment Period Ends: 09/21/2015, Contact: Frank McMenimen 760-833-7150.

EIS No. 20150213, Final, USFS, CA, Westside Fire Recovery Project, Review Period Ends: 09/08/2015, Contact: Wendy Coats 530-841-4470.

EIS No. 20150214, Draft, BR, CA, Coordinated Long-Term Operation of the Central Valley Project and State Water Project, Comment Period Ends: 09/29/2015, Contact: Janice Piñero 916-414-2428.

Dated: August 4, 2015.
Karin Leff,
Acting Director, NEPA Compliance Division, Office of Federal Activities.

[FR Doc. 2015-19441 Filed 8-6-15; 8:45 am]

BILLING CODE 6560-50-P